DEPARTMENT OF JUSTICE

National Institute of Corrections

Advisory Board; Notice of Meeting

This notice announces a forthcoming meeting of the National Institute of Corrections (NIC) Advisory Board. At least one portion of the meeting will be closed to the public.

Name of the Committee: NIC Advisory Board.

General Function of the Committee: To aid the National Institute of Corrections in developing long-range plans, advise on program development, and recommend guidance to assist NIC's efforts in the areas of training, technical assistance, information services, and policy/program development assistance to Federal, state, and local corrections agencies.

Date and Time: 1 p.m.-4 p.m. ET on Tuesday, January 7, 2025, and 1 p.m.-4 p.m. ET on Wednesday, January 8, 2025.

Location: Virtual.

Contact Person: Leslie LeMaster, Designated Federal Official (DFO) to the NIC Advisory Board, The National Institute of Corrections, 320 First Street NW, Room 901-3, Washington, DC 20534. To contact Ms. LeMaster, please call (202) 305-5773 or llemaster@bop.gov.

Agenda: On January 7-8, 2025, the Advisory Board will: (1) receive a brief Agency Report from the NIC Director, (2) receive project-specific updates from all NIC divisions, and (3) updates from association and agency partners to the Board. Time for questions and counsel from the Board is built into the agenda.

Procedure: On Tuesday, January 7, 2025, 1 p.m.-4 p.m. ET, and Wednesday, January 8, 2025, 1 p.m.-3:30 p.m. ET, the meeting is open to the public. Interested persons may request to attend virtually, and present data, information, or views, orally and/or in writing, on issues pending before the committee. Such requests must be made to the contact person on or before Friday, December 20, 2024. The public comment period is scheduled for 3 p.m.-3:10 p.m. ET on January 8, 2025. The time allotted for each presentation and/or comment is limited. Those who wish to make formal oral presentations should notify the contact person and submit a brief statement of the general nature of the evidence or arguments they wish to present, the names, titles, agencies, addresses, and email addresses of proposed participants, and an indication of the approximate time requested to make their presentation on or before December 20, 2024.

Closed Committee Deliberations: On January 8, 2025, between 3:30 p.m.-4 p.m. ET, the meeting will be closed to permit discussion of information that (1) relates solely to the internal personnel rules and practices of an agency (5 U.S.C. 552b(c)(2)), and (2) is of a personal nature where disclosure would constitute a clearly unwarranted invasion of personal privacy (5 U.S.C. 552b(c)(6)).

General Information: NIC welcomes the attendance of the public at its advisory committee meetings and will make every effort to accommodate persons with physical disabilities or special needs. If you require special accommodations due to a disability, please contact Leslie LeMaster by December 20, 2024. Notice of this meeting is given under the Federal Advisory Committee Act (5 U.S.C. app. 2).

Leslie LeMaster,
Designated Federal Official, National Institute of Corrections.

[FR Doc. 2024-29131 Filed 12-11-24; 8:45 am]

BILLING CODE 4410-36-P